DEPARTMENT OF COMMERCE

National Oceanic and Atmospheric Administration

[I.D. 020106C]

International Whaling Commission; Public Meeting; Announcement of Public Meeting

AGENCY: National Marine Fisheries Service (NMFS), National Oceanic and Atmospheric Administration (NOAA), Commerce.

ACTION: Notice of meeting.

SUMMARY: This notice announces the date and location of a public meeting being held to discuss International Whaling Commission (IWC) issues, including the outcome of the Revised Management Scheme Working Group meeting held at the end of February.

DATES: The public meeting will be held March 31, 2006, at 10 am.

ADDRESSES: The meeting will be held in the NOAA Science Center Room, 1301 East West Highway, Silver Spring, MD 20910.

FOR FURTHER INFORMATION CONTACT: Cheri McCarty, 301-713-9090, Extension 183.

SUPPLEMENTARY INFORMATION: The Secretary of Commerce is charged with the responsibility of discharging the obligations of the United States under the International Convention for the Regulation of Whaling, 1946. The U.S. Commissioner has primary responsibility for the preparation and negotiation of U.S. positions on international issues concerning whaling and for all matters involving the IWC. He is staffed by the Department of Commerce and assisted by the Department of State, the Department of the Interior, Marine Mammal Commission, and by other agencies.

NOAA will hold a meeting to discuss IWC issues, including the outcome of the Revised Management Scheme Working Group meeting held at the end of February. Any U.S. citizen with an identifiable interest in U.S. whale conservation policy may participate, but NOAA reserves the authority to inquire about the interests of any person who appears at a meeting and to determine the appropriateness of that person's participation. Persons who represent foreign interests may not attend. These stringent measures are necessary to protect the confidentiality of U.S. negotiating positions.

The meeting will be held at 10 am in the NOAA Science Center Room, 1301 East West Highway, Silver Spring, MD 20910. Please bring identification for admission into the building.

Special Accommodations

These meetings are physically accessible to people with disabilities. Requests for sign language interpretation or other auxiliary aids should be directed to the Cheri McCarty, 301-713-9090 extension 183, by March 20, 2006.

Dated: February 9, 2006.
William T. Hogarth,
Assistant Administrator for Fisheries, National Marine Fisheries Service.

[FR Doc. E6-2194 Filed 2-15-06; 8:45 am]

BILLING CODE 3510-22-S